DEPARTMENT OF ENERGY

Federal Energy Regulatory Commission

[Docket No. RP00-632-025]

Dominion Transmission, Inc.; Notice of Compliance Filing

August 24, 2007.

Take notice that on August 21, 2007, Dominion Transmission, Inc. (DTI) tendered for filing as part of its FERC Gas Tariff, Third Revised Volume No. 1, the following tariff sheets, to become effective September 1, 2007:

Thirty-First Revised Sheet No. 31.

Seventh Revised Sheet No. 31A.

Thirty-Fourth Revised Sheet No. 32.

Seventh Revised Sheet No. 32A.

Twentieth Revised Sheet No. 39.

Eighth Revised Sheet No. 39A.

DTI states that the purpose of this filing is to revise DTI's fuel retention percentages applicable to Rate Schedules FT, FTNN, FTNNGSS, FTGSS, FTSC, FTNNSC, IT, and MCS (Wheeling) to reflect the suspension of its Transportation Amortization Adder as of September 1, 2007. DTI states that it is removing the Transportation Amortization Adder in compliance with the terms of its June 22, 2001 settlement in Docket No. RP00-632-003 which requires the adder to be eliminated upon collection of the 5.2895 MMDt allocated to transportation services.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-17260 Filed 8-30-07; 8:45 am]

BILLING CODE 6717-01-P